DEPARTMENT OF TRANSPORTATION

Federal Aviation Administration

Notice of Intent To Rule on Application To Impose and Use the Revenue From a Passenger Facility Charge (PFC) at Pitt-Greenville Airport, Greenville, NC

AGENCY: Federal Aviation Administration (FAA), DOT.

ACTION: Notice of intent to rule on application.

SUMMARY: The FAA proposes to rule and invites public comment on the application to impose and use the revenue from a PFC at Pitt-Greenville Airport under the provisions of the Aviation Safety and Capacity Expansion Act of 1990 (Title IX of the Omnibus Budget Reconciliation Act of 1990) (Pub. L. 101-508) and Part 158 of the Federal Aviation Regulations (14 CFR Part 158).

DATES: Comments must be received on or before January 29, 2001.

ADDRESSES: Comments on this application may be mailed or delivered in triplicate to the FAA at the following address:

Atlanta Airports District Office, Campus Building, 1701 Columbia Avenue, Suite 20260, College Park, GA 30337.

In addition, one copy of any comments submitted to the FAA must be mailed or delivered to Mr. James G. Turcotte, Manager of the Pitt-Greenville Airport at the following address: Pitt-Greenville Airport, P.O. Box 671, Greenville, NC 27834.

Air carriers and foreign air carriers may submit copies of written comments previously provided to the Pitt County-City of Greenville Airport Authority under section 158.23 of Part 158.

FOR FURTHER INFORMATION CONTACT: Mr. Rans D. Black, Assistant Manager, Atlanta Airports District Office, Campus Building, 1701 Columbia Avenue, Suite 2-260, College Park, GA 30337, (404) 305-7141. The application may be reviewed in person at this same location.

SUPPLEMENTARY INFORMATION: The FAA proposes to rule and invites public comment on the application to impose and use the revenue from a PFC at Pitt-Greenville Airport under the provisions of the Aviation Safety and Capacity Expansion Act of 1990 (Title IX of the Omnibus Budget Reconciliation Act of 1990) (Pub. L. 101-508) and Part 158 of the Federal Aviation Regulations (14 CFR Part 158).

On December 19, the FAA determined that the application to impose and use the revenue from a PFC submitted by Pitt Company—City of Greenville Airport Authority was substantially complete within the requirements of section 158.25 of Part 158. The FAA will approve or disapprove the application, in whole or in part, no later than March 30, 2001.

The following is a brief overview of the application.

PFC Application No.: 01-02-C-00-PGV.

Level of the proposed PFC: $4.50

Proposed charge effective date: July 1, 2001

Proposed charge expiration date: May 1, 2009

Total estimated net PFC revenue: $1,480,404

Brief description of proposed project(s):

Impose and Use:

Environmental Assessment

Extend Runway 19 (500 ft. (to 6,000′))

Update Airport Layout Plan

Taxiway A Extension

Design Rehab/Relocation of Taxiways A & B, and Air Carrier Apron

Disaster Recovery—ARFF Building Rehab

Disaster Recovery—Rehab Runways

Disaster Recovery—Airfield Lighting Rehab

Disaster Recovery—Install Instrument Approach Aids

Disaster Recovery—Rehab Terminal Building

Prepare PFC Application

Runway 2 Safety Area Improvements

Taxiway A Relocation

Air Carrier Apron Rehab

Taxiway B Rehab

ARFF Vehicle

Land Acquisition

Use:

Install Approach Lighting System

Extend RW 19 (500 ft.-to 6,500′)

Class or classes of air carriers which the public agency has requested not be required to collect PFCs: None

Any person may inspect the application in person at the FAA office listed above under FOR FURTHER INFORMATION CONTACT.

In addition, any person may, upon request, inspect the application, notice and other documents germane to the application in person at the Pitt County—City of Greenville Airport Authority.

Dated: Issued in Atlanta, GA on December 12, 2000.
Rans D. Black,
Acting Manager, Atlanta Airports District Office, Southern Region.

[FR Doc. 00-33189 Filed 12-27-00; 8:45 am]

BILLING CODE 4910-13-M